DEPARTMENT OF COMMERCE

National Oceanic and Atmospheric Administration

[RTID 0648-XE858]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Archipelagic Plan Team (APT) and Pelagic Plan Team (PPT) to discuss fishery management issues and develop recommendations for future management of fisheries in the Western Pacific Region.

DATES: The APT will meet on Monday and Tuesday, May 5-6, 2025, between 8:30 a.m. and 4 p.m. Hawaii Standard Time (HST). The APT will meet jointly with the PPT on Wednesday, May 7, 2025, between 8:30 a.m. and 5 p.m. HST. The PPT will meet on Thursday and Friday, May 8-9 2025, between 8:30 a.m. and 4 p.m. HST. For specific times and agendas, see SUPPLEMENTARY INFORMATION.

ADDRESSES: The meeting will be held in a hybrid format with in-person and remote participation (Webex) options available for the members, and public attendance limited to web conference via Webex. In-person attendance for members will be hosted at the Council office, 1164 Bishop Street, Suite 1400, Honolulu, HI 96813. Specific information on joining the meeting, connecting to the web conference and making oral public comments will be posted on the Council website at www.wpcouncil.org. For assistance with the web conference connection, contact the Council office at (808) 522-8220.

FOR FURTHER INFORMATION CONTACT: Kitty M. Simonds, Executive Director, Western Pacific Fishery Management Council; phone: (808) 522-8220 (voice) or (808) 522-8226 (fax).

SUPPLEMENTARY INFORMATION: The APT meeting will be held Monday and Tuesday, May 5-6, 2025, between 8:30 a.m. and 4 p.m. Hawaii Standard Time (HST) (7:30 a.m. to 3 p.m. Samoa Standard Time (SST); 4:30 a.m. to 12 p.m. on May 6-7, 2025, Chamorro Standard Time (ChST)). The APT will meet jointly with the PPT on Wednesday, May 7, 2025, between 8:30 a.m. and 5:00 p.m. HST (7:30 a.m. to 4 p.m. Samoa Standard Time (SST); 4:30 a.m. to 1 p.m. on May 8, 2025, Chamorro Standard Time (ChST)). The PPT will meet on Thursday and Friday, May 8-9, 2025, between 8:30 a.m. and 4 p.m. HST (7:30 a.m. to 3 p.m. Samoa Standard Time (SST); 4:30 a.m. to 12 p.m. on May 9-10, 2025, Chamorro Standard Time (ChST)). Opportunities to present oral public comment will be provided on the agenda. The order of the agenda may change, and will be announced in advance at the meeting. The meeting may run past the scheduled times noted above to complete scheduled business.

Agenda for the Archipelagic Plan Team Meeting

Monday, May 5, 2025, 8:30 a.m. to 4 p.m. HST (7:30 a.m. to 3 p.m. Samoa Standard Time (SST); 4:30 a.m. to 12 p.m. on May 6, 2025, Chamorro Standard Time (ChST))

1. Welcome and APT Introductions

2. Approval of Draft APT Agenda

3. Report on Previous APT Recommendations

4. 2024 Archipelagic Annual Stock Assessment and Fishery Evaluation (SAFE) Reports

A. Fishery Performance

i. Archipelagic Fishery Performance Modules

a. American Samoa

b. Guam

c. Commonwealth of the Northern Mariana Islands (CNMI)

d. Hawaii

B. Ecosystem and Climate Considerations

i. Protected Species

ii. Life History and Length-Derived Variables

iii. Biomass Estimates for Coral Reef Ecosystem Components

C. Administrative Reports

i. Federal Permit and Logbook Data

ii. Regulatory Actions

iii. Discussions

D. Open Discussion: Archipelagic SAFE Report Matters

i. Impacts of Weather and Military Activity on Fishery Performance

ii. American Samoa Fish Aggregating Device Program Data

iii. Other Items

5. APT Review: Working Group Progress and Action Item Progress

A. Territorial Non-Commercial Modules

B. Hawaii Non-Commercial Modules

6. Public Comment

Tuesday, May 6, 2025, 8:30 a.m. to 4 p.m. HST (7:30 a.m. to 3 p.m. Samoa Standard Time (SST); 4:30 a.m. to 12 p.m. on May 7, 2025, Chamorro Standard Time (ChST))

7. Ecosystem Component Species (ECS) Discussion

A. Conservation and management of ECS: cases from other regions

B. General Counsel Pacific Islands Perspective

C. Developing a management framework for ECS

D. Direction for ECS Working Group

E. Open Discussion on ECS

8. Nature of the Marine Recreational Information Program Surveys

9. Council Actions

A. Main Hawaiian Islands Uku 2026-2029 Annual Catch Limit Specification

B. CNMI Bottomfish Western Pacific Stock Assessment Review Update

9. Improving Data Collection for the Next Benchmark Assessments

10. Public Comment

11. Discussion and Archipelagic Plan Team Recommendations

Agenda for the Joint Archipelagic and Pelagic Plan Teams Meeting

Wednesday, May 7, 2025, 8:30 a.m. to 5 p.m. HST (7:30 a.m. to 3 p.m. Samoa Standard Time (SST); 4:30 a.m. to 1 p.m. on May 8, 2025, Chamorro Standard Time (ChST))

1. PPT Welcome and Introductions

2. Approval of PPT Draft Agenda

3. 2024 Archipelagic and Pelagic Annual SAFE Reports

A. Fisher Observations

i. American Samoa

ii. CNMI

iii. Guam

iv. Hawaii

B. Ecosystem Considerations and Indicator Development

i. Oceanic and Climate Variables

a. Archipelagic Dashboard Update

b. Developing New Recruitment Indices

c. New Indicator for Guam

ii. Socioeconomics

iii. Essential Fish Habitat

iv. Marine Planning

4. SAFE Reports Revamp

A. Suggestions for Future Improvements of Online Portals

B. Areas for Revision Stemming from 2024 Updates

5. Data Integration/Fishery Ecosystem Relationships

A. Establishing Links Between the Environment and Fishery Performance

B. Next Steps

6. Program Planning

A. IRA Project Updates

B. Update on Small-Boat Fisheries

8. Other Issues

9. Public Comment

10. Discussion and Joint Plan Team Recommendations

11. Other Business and APT Closing

Agenda for the Pelagic Plan Team Meeting

Thursday, May 8, 2025, 8:30 a.m. to 4 p.m. HST (7:30 a.m. to 3 p.m. Samoa Standard Time (SST); 4:30 a.m. to 12 p.m. on May 9, 2025, Chamorro Standard Time (ChST))

1. Report on Previous PPT Recommendations

2. 2024 Pelagic Annual SAFE Reports

A. Fishery Data Modules

i. American Samoa

ii. CNMI

iii. Guam

iv. Hawaii

v. International

B. Ecosystem Considerations Modules

i. Protected Species

C. Administrative Reports

i. Regulatory Action

3. PPT Review: Working Group and Action Item Progress

A. Shallow-set Longline Leatherback Sea Turtle Hardcap Review

B. Life History Module Development

C. Bigeye Tuna Catch Per Unit Effort Working Group

4. Discussion: Pelagic SAFE Report Matters

5. Public Comment

Friday, May 9, 2025, 8:30 a.m. to 4 p.m. HST (7:30 a.m. to 3 p.m. Samoa Standard Time (SST); 4:30 a.m. to 12 p.m. on May 10, 2025, Chamorro Standard Time (ChST))

6. Crew Training in Hawaii and American Samoa Longline Fisheries

7. Electronic Monitoring (EM) in Hawaii and American Samoa Longline Fisheries

A. Overview of Council Action

B. Social and Economic Impacts of EM

C. EM Sampling and Data Review

D. Council Action Alternatives

8. Potential ECS Management under Pelagic FEP

9. International Fisheries Updates

A. South Pacific Albacore Management Procedure

10. Public Comment

11. Discussion and Pelagic Plan Team Recommendations 12. Other Business and PPT Closing

Special Accommodations

These meetings are accessible to people with disabilities. Please direct requests for sign language interpretation or other auxiliary aids to Kitty M. Simonds (see FOR FURTHER INFORMATION CONTACT section above) at least 5 days prior to the meeting date.

Authority: 16 U.S.C. 1801 et seq.

Dated: April 16, 2025.
Rey Israel Marquez,
Acting Deputy Director, Office of Sustainable Fisheries, National Marine Fisheries Service.

[FR Doc. 2025-06824 Filed 4-18-25; 8:45 am]

BILLING CODE 3510-22-P